OFFICE OF SCIENCE AND TECHNOLOGY POLICY

National Science and Technology Council; Interagency Arctic Research Policy Committee (IARPC) Arctic Research Plan FY2017-2021

ACTION: Request for Public Comment.

SUMMARY: The Arctic Research and Policy Act of 1984 (ARPA), P.L. 98-373, established the Interagency Arctic Research Policy Committee (IARPC) to develop national Arctic research policy through five-year Federal research plans. Chaired by the Director of the National Science Foundation (NSF), IARPC is composed of representatives from 14 agencies. More information on IARPC can be found at http://www.iarpccollaborations.org.

IARPC seeks public comment on its new Arctic Research Plan FY2017-2021 (Five-Year Plan). The Five-Year Plan describes research priorities that are expected to benefit from interagency collaboration; not all research conducted by Federal agencies is included in the Five-Year Plan. The Five-Year Plan and additional information, including any updates to this Federal Register notice, will be available at https://review.globalchange.gov/.

DATES: Responses must be received by August 21, 2016, 11:59 p.m. EST, to be considered.

ADDRESSES: The Arctic Research Plan FY2017-2021 is available at https://review.globalchange.gov/ where comments from the public will be accepted electronically. Comments must be submitted online at this address; instructions for submitting are on this Web site. The U.S. Global Change Research Program (USGCRP) hosts several documents for review. To comment on the Arctic Research Plan FY 2017-2021, please scroll through the list of available documents and select “Arctic Research Plan FY2017-2021.”

Instructions: Responses to this Request for Information (RFI) are voluntary. All submissions must be in English. Please clearly label submissions as “IARPC FIVE-YEAR PLAN COMMENT.” Responses exceeding 250 words will not be considered. All comments received through this process will be considered by the relevant chapter authors without knowledge of the commenters' identities. When the final plan is issued, relevant comments and the commenters' names, along with the authors' responses, will become part of the public record and be made available at https://review.globalchange.gov/. The Office of Science and Technology Policy (OSTP) therefore requests that no business proprietary information, copyrighted information, or personally identifiable information be submitted in response to this RFI. Please note that the U.S. Government will not pay for response preparation, or for the use of any information contained in the response.

FOR FURTHER INFORMATION CONTACT: Sandy Starkweather, NOAA Arctic Research Program (c/o Starkweather), 1315 East West Highway, R/CP 42nd Floor, 2820 Silver Spring, MD 20910. (telephone number: 301-427-2471 or email address: sandy.starkweather@noaa.gov) during normal business hours of 9 a.m. to 5 p.m. Eastern time, Monday through Friday, or visit https://review.globalchange.gov/.

SUPPLEMENTARY INFORMATION: The Five-Year Plan focuses on the following nine priority areas designed to enhance the goals and objectives of Federal agencies in Arctic research:

(1) Health and well-being

(2) Atmospheric composition and dynamics

(3) Sea ice cover

(4) Marine ecosystems

(5) Glaciers and the Greenland Ice Sheet

(6) Permafrost

(7) Terrestrial and freshwater ecosystems

(8) Coastal community resilience

(9) Environmental intelligence

For the purposes of research planning, IARPC follows Section 112 of the ARPA in defining the Arctic as “all United States and foreign territory north of the Arctic Circle and all United States territory north and west of the boundary formed by the Porcupine, Yukon, and Kuskokwim Rivers [in Alaska]; all contiguous seas, including the Arctic Ocean and the Beaufort, Bering, and Chukchi Seas; and the Aleutian chain.”

OSTP anticipates that the final IARPC Arctic Research Plan FY2017-2021 will be available at https://www.whitehouse.gov/administration/eop/ostp/nstc/committees/cenrs/iarpc and at www.iarpccollaborations.org.

Ted Wackler,
Deputy Chief of Staff and Assistant Director.

[FR Doc. 2016-17326 Filed 7-25-16; 8:45 am]

BILLING CODE 3270-F6-P